DEPARTMENT OF AGRICULTURE

Forest Service

Kenai Peninsula—Anchorage Borough Resource Advisory Committee

AGENCY: Forest Service, USDA.

ACTION: Notice of meeting.

SUMMARY: The Kenai Peninsula—Anchorage Borough Resource Advisory Committee will meet in Portage Valley, Alaska. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review and recommend proposed projects.

DATES: The meeting will be held May 21, 2011, 10 a.m.

ADDRESSES: The meeting will be held at the Begich Boggs Visitor's Center, 800 Portage Lake Loop, Portage, AK 99587. Written comments may be submitted as described under SUPPLEMENTARY INFORMATION.

All comments, including names and addresses when provided, are placed in the record and are available for public inspection and copying. The public may inspect comments received at the Seward Ranger District Office, 334 4th Ave, Seward, AK 99664. Please call ahead to 907-224-3374 to facilitate entry into the building to view comments.

FOR FURTHER INFORMATION CONTACT: Travis Moseley, Designated Federal Official, c/o USDA Forest Service, PO Box 390, Seward, AK 99664, telephone (907) 288-7730.

Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed For Further Information.

SUPPLEMENTARY INFORMATION: The following business will be conducted: reviewing and recommending proposed projects. Anyone who would like to bring related matters to the attention of the committee may file written statements with the committee staff before or after the meeting. The agenda will include time for people to make oral statements of three minutes or less. Individuals wishing to make an oral statement should request in writing by May 20, 2011 to be scheduled on the agenda. Written comments and requests for time for oral comments must be sent to PO Box 390, Seward, AK 99664, or by e-mail to slatimer@fs.fed.us, or via facsimile to 907 224-3268.

Dated: April 18, 2011.
Tim Charnon,
Designated Federal Official.

[FR Doc. 2011-9931 Filed 4-29-11; 8:45 am]

BILLING CODE 3410-11-P